ENVIRONMENTAL PROTECTION AGENCY

[ER-FRL-6676-5]

Environmental Impacts Statements; Notice of Availability

Responsible Agency: Office of Federal Activities, General Information (202) 564-7167 or http://www.epa.gov/compliance/nepa/.

Weekly receipt of Environmental Impact Statements

Filed 6/12/2006 through 6/16/2006

Pursuant to 40 CFR 1506.9.

EIS No. 20060253, Draft EIS, AFS, NV, Jarbidge Ranger District Rangeland Management Project, Authorize Continued Livestock Grazing, Humboldt-Toiyabe National Forest, Columbia River, NV, Comment Period Ends: 8/7/2006, Contact: James Winfrey 775-778-6129.

EIS No. 20060254, Final EIS, FHW, NY, Southtowns Connector/Buffalo Outer Harbor Project, Improvements on the NYS Route 5 Corridor from Buffalo Skyway Bridge to NYS Route 179, in the City of Buffalo, City of Lackawanna and Town of Hamburg, Erie County, NY, Wait Period Ends: 7/24/2006, Contact: Robert Arnold 518-431-4127.

EIS No. 20060255, Final EIS, NPS, IA, Hoover Creek Stream Management Plan, Implementation, Herbert Hoover National Historic Site, IA, Wait Period Ends: 7/24/2006, Contact: Bruce McKeeman 319-643-2541.

EIS No. 20060256, Draft EIS, AFS, CA, Pilgrim Vegetation Management Project, Proposes Commercial Thinning/Sanitation, Shasta-Trinity National Forest, Siskiyou County, CA, Comment Period Ends: 8/7/2006, Contact: Dennis Poehlmann 530-926-9656.

EIS No. 20060257, Draft EIS, AFS, AK, Helicopter Access to Conduct Forest Inventory and Analysis (FIA) in Wilderness, Implementation, Tongass and Chugach National Forest, AK, Comment Period Ends: 8/7/2006, Contact: Ken Post 907-586-8796.

EIS No. 20060258, Draft EIS, FRC, OR, Clackamas River Hydroelectric Project, Application for Relicensing of a Existing 173 megawatt(MS) Project, (FERC No. 2195-011) Clackamas River Basin, Clackamas County, OR, Comment Period Ends: 8/7/2006, Contact: John Blair 202-502-6092.

EIS No. 20060259, Final EIS, BLM, UT, Uinta Basin Natural Gas Project, Proposal to Produce and Transport Natural Gas in the Atchee Wash Oil and Gas Production Region, Resource Development Group, Right-of-Way Grant, U.S. COE Section 404 Permit and Endangered Species Act Permit, Uintah County, UT, Wait Period Ends: 7/24/2006, Contact: Stephanie Howard 435-781-4400.

Amended Notices

EIS No. 20060181, Draft EIS, BLM, 00,Devers-Palo Verde No. 2 Transmission Line Project, Construction and Operation a New 230-mile 500 kV Electric Transmission Line between Devers Substation in California and Harquahala Generating Substation in Arizona, Comment Period Ends: 08/11/2006, Contact: Greg Hill 760-251-4840. Revision to FR Notice Published 5/19/2006: Comment Period Extended from 7/05/2006 to 8/11/2006.

EIS No. 20060209, Draft EIS, NPS, PA, Flight 93 National Memorial, Designation of Crash Site to Commemorate the Passengers and Crew of Flight 93, Implementation, Stonycreek Township, Somerset County, PA, Comment Period Ends: 8/14/2006, Contact: Jeff Reinbold 814-443-4557. Revision of FR Notice Published 5/26/2006: Extending Comment Period from 7/17/2006 to 8/14/2006.

EIS No. 20060218, Draft EIS, FHW, NY, Williamsville Toll Barrier Improvement Project, Improvements from New York Thruway, Interstate 90 between Interchange 48A and 50, Funding, Erie and Genesee Counties, NY, Comment Period Ends: 7/24/2006, Contact: Amy Jackson-Grove 518-431-4125. Revision to FR Notice Published 6/2/2006: Correction to Comment Period from 7/17/2006 to 7/24/2006.

Dated: June 20, 2006.
Robert W. Hargrove,
Director, NEPA Compliance Division, Office of Federal Activities.

[FR Doc. E6-9951 Filed 6-22-06; 8:45 am]

BILLING CODE 6560-50-P